DEPARTMENT OF HEALTH AND HUMAN SERVICES

Administration for Children and Families

45 CFR Parts 301, 302, 303, 304, 305, 307, 308, 309, and 310

RIN 0970-AD06

Name Change From Office of Child Support Enforcement to Office of Child Support Services; Withdrawal

AGENCY: Administration for Children and Families (ACF), Department of Health and Human Services (HHS).

ACTION: Direct final rule; withdrawal.

SUMMARY: ACF published in the Federal Register on December 31, 2024, a direct final rule making technical updates throughout Title 45 Code of Federal Regulations (CFR) Chapter III. On February 27, 2025, ACF re-opened the comment period and delayed the effective date until April 28, 2025. The comment period closed March 31, 2025. ACF is withdrawing the direct final rule because the Agency received significant adverse comment.

DATES: The direct final rule published at 89 FR 107015 on December 31, 2024 is withdrawn effective April 23, 2025.

FOR FURTHER INFORMATION CONTACT: Kimberly Curtis, Division of Policy and Training, OCSS, telephone (202) 690-6614. Email inquiries to ocss.dpt@acf.hhs.gov. Telecommunications Relay users may dial 711 first.

SUPPLEMENTARY INFORMATION: On December 31, 2024, the Administration for Children and Families (ACF) published a direct final rule to change the name of the child support program throughout 45 CFR Chapter III, parts 301-310 and make technical updates to 45 CFR part 309. The direct final rule stated that if significant adverse comments were received, ACF would publish a timely withdrawal of the DFR in the Federal Register. ACF is withdrawing the direct final rule published in the Federal Register at 89 FR 107015 on December 31, 2024 because the agency has received significant adverse comments.

Dated: April 18, 2025.
Robert F. Kennedy Jr.,
Secretary, Department of Health and Human Services.

[FR Doc. 2025-06958 Filed 4-22-25; 8:45 am]

BILLING CODE 4184-41-P